ENVIRONMENTAL PROTECTION AGENCY

40 CFR Part 52

[VA155-5081a; FRL-7834-6]

Approval and Promulgation of Air Quality Implementation Plans; Virginia; Withdrawal of Direct Final Rule

AGENCY: Environmental Protection Agency (EPA).

ACTION: Withdrawal of direct final rule.

SUMMARY: Due to an adverse comment, EPA is withdrawing the direct final rule to approve reasonable available control technology (RACT) to limit nitrogen oxides (NOX) emissions from two individual sources located in Fairfax County, Virginia, namely, the Central Intelligence Agency, and the National Reconnaissance Office. In the direct final rule published on September 9, 2004 (69 FR 54574), we stated that if we received adverse comment by October 12, 2004, the rule would be withdrawn and not take effect. EPA received adverse comments on October 12, 2004. EPA will address the comments received in a subsequent final action based upon the proposed action also published on September 9, 2004 (69 FR 54600). EPA will not institute a second comment period on this action.

DATES: The Direct final rule is withdrawn as of November 4, 2004.

FOR FURTHER INFORMATION CONTACT: Rose Quinto, (215) 814-2182, or by e-mail at quinto.rose@epa.gov.

List of Subjects in 40 CFR Part 52

Environmental protection, Air pollution control, Nitrogen dioxide, Ozone, Reporting and recordkeeping requirements.

Dated: October 29, 2004.
James W. Newsom,
Acting Regional Administrator, Region III.

For the reasons set forth in the preamble, EPA withdraws the revision of the entries for the Central Intelligence Agency, CIA, George Bush Center for Intelligence; and the National Reconnaissance Office, Boeing Service Center in § 52.2420(d) published at 69 FR 54578 (September 9, 2004).

[FR Doc. 04-24656 Filed 11-3-04; 8:45 am]

BILLING CODE 6560-50-P